DEPARTMENT OF EDUCATION

Submission for OMB Review; Comment Request

AGENCY: Department of Education.

ACTION: Correction notice.

SUMMARY: On August 16, 2007, the Department of Education published a comment period notice in the Federal Register (Page 46049, Column 1) for the information collection, “Consolidation State Performance Report (CSPR).” The Responses are 14,652, and the Burden Hours are 28,583.

The Leader, Information Management Case Services Team, Regulatory Information Management Services, Office of Management, hereby issues a correction notice as required by the Paperwork Reduction Act of 1995.

Dated: August 17, 2007.
Angela Arrington,
Leader, Information Management Case Services Team, Regulatory Information Management Services, Office of Management.

[FR Doc. E7-16732 Filed 8-22-07; 8:45 am]

BILLING CODE 4000-01-P